DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual regulatory Agenda, Spring 2015

AGENCY: Office of the Secretary, USDA.

ACTION: Semiannual regulatory agenda.

SUMMARY: This agenda provides summary descriptions of significant and not significant regulations being developed in agencies of the U.S. Department of Agriculture (USDA) in conformance with Executive Orders (E.O.) 12866 “Regulatory Planning and Review,” and 13563 “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with E.O. 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

FOR FURTHER INFORMATION CONTACT: For further information on any specific entry shown in this agenda, please contact the person listed for that action. For general comments or inquiries about the agenda, please contact Michael Poe, Office of Budget and Program Analysis, U.S. Department of Agriculture, Washington, DC 20250, (202) 720-3257.

Dated: March 24, 2015.
Michael Poe,
Chief, Legislative and Regulatory Staff.

Agricultural Marketing Service—Proposed Rule Stage
Sequence No. | Title | Regulation Identifier No.
1 | National Organic Program, Origin of Livestock, NOP-11-0009 | 0581-AD08
2 | National Organic Program, Organic Pet Food Standards | 0581-AD20
3 | National Organic Program, Organic Apiculture Practice Standard, NOP-12-0063 | 0581-AD31
4 | National Organic Program—Organic Aquaculture Standards | 0581-AD34

Animal and Plant Health Inspection Service—Proposed Rule Stage
Sequence No. | Title | Regulation Identifier No.
5 | Scrapie in Sheep and Goats | 0579-AC92
6 | Plant Pest Regulations; Update of General Provisions | 0579-AC98
7 | Bovine Spongiform Encephalopathy and Scrapie; Importation of Small Ruminants and Their Germplasm, Products, and Byproducts | 0579-AD10
8 | Brucellosis and Bovine Tuberculosis; Update of General Provisions | 0579-AD65

Animal and Plant Health Inspection Service—Final Rule Stage
Sequence No. | Title | Regulation Identifier No.
9 | Importation of Wood Packaging Material From Canada | 0579-AD28
10 | Importation of Beef From a Region in Brazil | 0579-AD41
11 | Treatment of Firewood and Spruce Logs Imported From Canada | 0579-AD60
12 | Viruses, Serums, Toxins, and Analogous Products; Single Label Claim for Veterinary Biological Products | 0579-AD64
13 | Establishing a Performance Standard for Authorizing the Importation and Interstate Movement of Fruits and Vegetables | 0579-AD71
14 | User Fees for Agricultural Quarantine and Inspection Services | 0579-AD77
15 | Importation of Beef From a Region in Argentina (Section 610 Review) | 0579-AD92

Animal and Plant Health Inspection Service—Long-Term Actions
Sequence No. | Title | Regulation Identifier No.
16 | Introduction of Organisms and Products Altered or Produced Through Genetic Engineering | 0579-AC31

Rural Housing Service—Completed Actions
Sequence No. | Title | Regulation Identifier No.
17 | Guaranteed Single-Family Housing | 0575-AC18

Food and Nutrition Service—Proposed Rule Stage
Sequence No. | Title | Regulation Identifier No.
18 | Child and Adult Care Food Program: Meal Pattern Revisions Related to the Healthy, Hunger-Free Kids Act of 2010 | 0584-AE18
19 | Modernizing Supplemental Nutrition Assistance Program (SNAP) Benefit Redemption Systems | 0584-AE37
20 | Supplemental Nutrition Assistance Program (SNAP): Electronic Benefits Transfer Requirements for Scanning and Product-Lookup Technology | 0584-AE39
21 | Food and Nutrition Service Regulatory Implementation of Office of Management and Budget's Uniform Administrative Requirements, Cost Principles, and Audit Requirements for Federal Awards | 0584-AE42

Food and Nutrition Service—Final Rule Stage
Sequence No. | Title | Regulation Identifier No.
22 | National School Lunch and School Breakfast Programs: Nutrition Standards for All Foods Sold in School, as Required by the Healthy, Hunger-Free Kids Act of 2010 | 0584-AE09
23 | National School Lunch and School Breakfast Programs: School Food Service Account Revenue Amendments Related to the Healthy, Hunger-Free Kids Act of 2010 | 0584-AE11
24 | Child Nutrition Programs: Local School Wellness Policy Implementation Under the Healthy, Hunger-Free Kids Act of 2010 | 0584-AE25

Food Safety and Inspection Service—Final Rule Stage
Sequence No. | Title | Regulation Identifier No.
25 | Mandatory Inspection of Fish of the Order Siluriformes and Products Derived From Such Fish | 0583-AD36

Forest Service—Proposed Rule Stage
Sequence No. | Title | Regulation Identifier No.
26 | Management of Surface Activities Associated With Outstanding Mineral Rights on National Forest System Lands | 0596-AD03

Forest Service—Final Rule Stage
Sequence No. | Title | Regulation Identifier No.
27 | Ski Area—D Clauses: Resource and Improvement Protection, Water Facilities, and Water Rights | 0596-AD14

DEPARTMENT OF AGRICULTURE (USDA)

Agricultural Marketing Service (AMS)

Proposed Rule Stage

1. National Organic Program, Origin of Livestock, NOP-11-0009

Legal Authority: 7 U.S.C. 6501

Abstract: The current regulations provide two tracks for replacing dairy animals which are tied to how dairy farmers transition to organic production. Farmers who transition an entire distinct herd must thereafter replace dairy animals with livestock that has been under organic management from the last third of gestation. Farmers who do not transition an entire distinct herd may perpetually obtain replacement animals that have been managed organically for 12 months prior to marketing milk or milk products as organic. The proposed action would eliminate the two-track system and require that upon transition, all existing and replacement dairy animals from which milk or milk products are intended to be sold, labeled, or represented as organic must be managed organically from the last third of gestation.

Timetable:

Action | Date | FR Cite
NPRM | 04/28/15 | 80 FR 23455
NPRM Comment Period End | 07/27/15

Regulatory Flexibility Analysis Required: Yes.

Agency Contact: Miles McEvoy, Deputy Administrator, USDA National Organic Program, Department of Agriculture, Agricultural Marketing Service, Washington, DC 20250, Phone: 202 720-3252.

RIN: 0581-AD08

2. National Organic Program, Organic Pet Food Standards

Legal Authority: 7 U.S.C. 6501

Abstract: The National Organic Program (NOP) is establishing national standards governing the marketing of organically produced agricultural products. In 2004, the National Organic Standards Board (NOSB) initiated the development of organic pet food standards, which had not been incorporated into the NOP regulations, by forming a task force which included pet food manufacturers, organic consultants, etc. Collectively, these experts drafted organic pet food standards consistent with the Organic Foods Production Act of 1990, Food and Drug Administration requirements, and the Association of American Feed Control Officials (AAFCO) Model Regulations for Pet and Specialty Pet Food. The AAFCO regulations are scientifically based regulations for voluntary adoption by State jurisdictions to ensure the safety, quality, and effectiveness of feed. In November 2008, the NOSB approved a final recommendation for organic pet food standards incorporating the provisions drafted by the pet food task force.

Timetable:

Action | Date | FR Cite
NPRM | 07/00/15

Regulatory Flexibility Analysis Required: Yes.

Agency Contact: Miles McEvoy, Deputy Administrator, USDA National Organic Program, Department of Agriculture, Agricultural Marketing Service, Washington, DC 20250, Phone: 202 720-3252

RIN: 0581-AD20

3. National Organic Program, Organic Apiculture Practice Standard, NOP-12-0063

Legal Authority: 7 U.S.C. 6501

Abstract: This action proposes to amend the USDA organic regulations to reflect an October 2010 recommendation submitted to the Secretary by the National Organic Standards Board (NOSB) concerning the production of organic apicultural (or beekeeping) products. Instead of continuing to allow certifying agents to certify apiculture to the organic livestock standards, this action would establish certification standards specifically for organic bees and bee products.

Timetable:

Action | Date | FR Cite
NPRM | 07/00/15

Regulatory Flexibility Analysis Required: Yes.

Agency Contact: Miles McEvoy, Deputy Administrator, USDA National Organic Program, Department of Agriculture, Agricultural Marketing Service, Washington, DC 20250, Phone: 202 720-3252.

RIN: 0581-AD31

4. National Organic Program—Organic Aquaculture Standards

Legal Authority: 7 U.S.C. 6501 to 6522

Abstract: This action proposes to establish standards for organic production and certification of farmed aquatic animals and their products in the USDA organic regulations. This action would also add aquatic animals as a scope of certification and accreditation under the National Organic Program. This action is necessary to establish standards for organic farmed aquatic animals and their products which would allow U.S. producers to compete in the organic seafood market. This action is also necessary to address multiple recommendations provided by USDA by the National Organic Standards Board (NOSB). In 2007 through 2009, the NOSB made five recommendations to establish standards for the certification of organic farmed aquatic animals and their products. Finally, the U.S. currently has organic standards equivalence arrangements with Canada and the European Union (EU). Both Canada and the EU have recently established standards for organic aquaculture products. Because the U.S. does not have organic aquaculture standards, the U.S. is unable to include aquaculture in the scope of these arrangements. Establishing U.S. organic aquaculture may provide a basis for expanding those trade partnerships.

Timetable:

Action | Date | FR Cite
NPRM | 08/00/15

Regulatory Flexibility Analysis Required: Yes.

Agency Contact: Miles McEvoy, Deputy Administrator, USDA National Organic Program, Department of Agriculture, Agricultural Marketing Service, Washington, DC 20250, Phone: 202 720-3252.

RIN: 0581-AD34

BILLING CODE 3410-02-P

DEPARTMENT OF AGRICULTURE (USDA)

Animal and Plant Health Inspection Service (APHIS)

Proposed Rule Stage

5. Scrapie in Sheep and Goats

Legal Authority: 7 U.S.C. 8301 to 8317

Abstract: This rulemaking would amend the scrapie regulations by changing the risk groups and categories established for individual animals and for flocks. It would simplify, reduce, or remove certain recordkeeping requirements. This action would provide designated scrapie epidemiologists with more alternatives and flexibility when testing animals in order to determine flock designations under the regulations. It would also make the identification and recordkeeping requirements for goat owners consistent with those for sheep owners. These changes would affect sheep and goat producers and State governments.

Timetable:

Action | Date | FR Cite
NPRM | 05/00/15
NPRM Comment Period End | 07/00/15

Regulatory Flexibility Analysis Required: Yes.

Agency Contact: Diane Sutton, Sheep, Goat, Cervid, and Equine Health Center; Surveillance, Preparedness, and Response Services, VS, Department of Agriculture, Animal and Plant Health Inspection Service, 4700 River Road, Unit 43, Riverdale, MD 20737-1235, Phone: 301 851-3509.

RIN: 0579-AC92

6. Plant Pest Regulations; Update of General Provisions

Legal Authority: 7 U.S.C. 450; 7 U.S.C. 2260; 7 U.S.C. 7701 to 7772; 7 U.S.C. 7781 to 7786; 7 U.S.C. 8301 to 8817; 19 U.S.C. 136; 21 U.S.C. 111; 21 U.S.C. 114a; 21 U.S.C. 136 and 136a; 31 U.S.C. 9701; 42 U.S.C. 4331 and 4332

Abstract: We are proposing to revise our regulations regarding the movement of plant pests. We are proposing criteria regarding the movement and environmental release of biological control organisms, and are proposing to establish regulations to allow the importation and movement in interstate commerce of certain types of plant pests without restriction by granting exceptions from permitting requirements for those pests. We are also proposing to revise our regulations regarding the movement of soil. This proposed rule replaces a previously published proposed rule, which we are withdrawing as part of this document. This proposal would clarify the factors that would be considered when assessing the risks associated with the movement of certain organisms and facilitate the movement of regulated organisms and articles in a manner that also protects U.S. agriculture.

Timetable:

Action | Date | FR Cite
Notice of Intent To Prepare an Environmental Impact Statement | 10/20/09 | 74 FR 53673
Notice Comment Period End | 11/19/09
NPRM | 06/00/15
NPRM Comment Period End | 08/00/15

Regulatory Flexibility Analysis Required: Yes.

Agency Contact: Shirley Wager-Page, Chief, Pest Permitting Branch, Plant Health Programs, PPQ, Department of Agriculture, Animal and Plant Health Inspection Service, 4700 River Road, Unit 131, Riverdale, MD 20737-1236, Phone: 301 851-2323.

RIN: 0579-AC98

7. Bovine Spongiform Encephalopathy and Scrapie; Importation of Small Ruminants and Their Germplasm, Products, and Byproducts

Legal Authority: 7 U.S.C. 450; 7 U.S.C. 1622; 7 U.S.C. 7701 to 7772; 7 U.S.C. 7781 to 7786; 7 U.S.C. 8301 to 8317; 21 U.S.C. 136 and 136a; 31 U.S.C. 9701

Abstract: This rulemaking would amend the bovine spongiform encephalopathy (BSE) and scrapie regulations regarding the importation of live sheep, goats, and wild ruminants and their embryos, semen, products, and byproducts. The proposed scrapie revisions regarding the importation of sheep, goats, and susceptible wild ruminants for other than immediate slaughter are similar to those recommended by the World Organization for Animal Health in restricting the importation of such animals to those from scrapie-free regions or certified scrapie-free flocks.

Timetable:

Action | Date | FR Cite
NPRM | 08/00/15
NPRM Comment Period End | 10/00/15

Regulatory Flexibility Analysis Required: Yes.

Agency Contact: Langston Hull, Senior Staff Veterinary Medical Officer, Animal Permitting and Negotiating Services, VS, Department of Agriculture, Animal and Plant Health Inspection Service, 4700 River Road, Unit 39, Riverdale, MD 20737-1231, Phone: 301 851-3300.

RIN: 0579-AD10

8. Brucellosis and Bovine Tuberculosis; Update of General Provisions

Legal Authority: 7 U.S.C. 1622; 7 U.S.C. 8301 to 8317; 15 U.S.C. 1828; 21 U.S.C. 136 and 136a; 31 U.S.C. 9701

Abstract: This rulemaking would consolidate the regulations governing bovine tuberculosis (TB), currently found in 9 CFR part 77, and those governing brucellosis, currently found in 9 CFR part 78. As part of this consolidation, we are proposing to transition the TB and brucellosis programs away from a State status system based on disease prevalence. Instead, States and tribes would implement an animal health plan that identifies sources of the diseases within the State or tribe and specifies mitigations to address the risk posed by these sources. The consolidated regulations also would set forth standards for surveillance, epidemiological investigations, and affected herd management that must be incorporated into each animal health plan, with certain limited exceptions; conditions for the interstate movement of cattle, bison, and captive cervids; and conditions for APHIS approval of tests for bovine TB or brucellosis. Finally, the rulemaking would revise the import requirements for cattle and bison to make these requirements clearer and ensure that they more effectively mitigate the risk of introduction of the diseases into the United States.

Timetable:

Action | Date | FR Cite
NPRM | 05/00/15
NPRM Comment Period End | 07/00/15

Regulatory Flexibility Analysis Required: Yes.

Agency Contact: Langston Hull, Senior Staff Veterinary Medical Officer, Animal Permitting and Negotiating Services, VS, Department of Agriculture, Animal and Plant Health Inspection Service, 4700 River Road, Unit 39, Riverdale, MD 20737-1231, Phone: 301 851-3300.

C. William Hench, Senior Cattle Health Specialist, Cattle Health Center, Surveillance, Preparedness, and Response, VS, Department of Agriculture, Animal and Plant Health Inspection Service, 2150 Centre Avenue, Building B-3E20, Ft. Collins, CO 80526. Phone: 970 494-7378.

RIN: 0579-AD65

DEPARTMENT OF AGRICULTURE (USDA)

Animal and Plant Health Inspection Service (APHIS)

Final Rule Stage

9. Importation of Wood Packaging Material From Canada

Legal Authority: 7 U.S.C. 450; 7 U.S.C. 7701 to 7772; 7 U.S.C. 7781 to 7786; 21 U.S.C. 136 and 136a

Abstract: This rulemaking will amend the regulations for the importation of unmanufactured wood articles to remove the exemption that allows wood packaging material from Canada to enter the United States without first meeting the treatment and marking requirements of the regulations that apply to wood packaging material from all other countries. This action is necessary in order to prevent the dissemination and spread of pests via wood packaging material from Canada.

Timetable:

Action | Date | FR Cite
NPRM | 12/02/10 | 75 FR 75157
NPRM Comment Period End | 01/31/11
Final Rule | 05/00/15
Final Rule Effective | 06/00/15 |

Regulatory Flexibility Analysis Required: Yes.

Agency Contact: John Tyrone Jones, Trade Director, Forestry Products, Phytosanitary Issues Management, PPQ, Department of Agriculture, Animal and Plant Health Inspection Service, 4700 River Road, Unit 140, Riverdale, MD 20737-1231, Phone: 301 851-2344.

RIN: 0579-AD28

10. Importation of Beef From a Region in Brazil

Legal Authority: 7 U.S.C. 450; 7 U.S.C. 7701 to 7772; 7 U.S.C. 7781 to 7786; 7 U.S.C. 8301 to 8317; 21 U.S.C. 136 and 136a; 31 U.S.C. 9701

Abstract: This rulemaking will amend the regulations governing the importation of certain animals, meat, and other animal products by allowing, under certain conditions, the importation of fresh (chilled or frozen) beef from a region in Brazil (the States of Bahia, Distrito Federal, Espirito Santo, Goias, Mato Grosso, Mato Grosso do Sul, Minas Gerais, Parana, Rio Grande do Sul, Rio de Janeiro, Rondonia, Sao Paulo, Sergipe, and Tocantis). Based on the evidence in a recent risk assessment, we have determined that fresh (chilled or frozen) beef can be safely imported from those Brazilian States, provided certain conditions are met. This action will provide for the importation of beef from the designated region in Brazil into the United States while continuing to protect the United States against the introduction of foot-and-mouth disease.

Timetable:

Action | Date | FR Cite
NPRM | 12/23/13 | 78 FR 77370
NPRM Comment Period End | 02/21/14
Final Rule | 05/00/15
Final Rule Effective | 06/00/15

Regulatory Flexibility Analysis Required: Yes.

Agency Contact: Dr. Silvia Kreindel, Senior Staff Veterinarian, Regionalization Evaluation Services Staff, NIES, VS, Department of Agriculture, Animal and Plant Health Inspection Service, 4700 River Road, Unit 38, Riverdale, MD 20737-1231, Phone: 301 851-3313.

RIN: 0579-AD41

11. Treatment of Firewood and Spruce Logs Imported From Canada

Legal Authority: 7 U.S.C. 450; 7 U.S.C. 7701 to 7772; 7 U.S.C. 7781 to 7786; 21 U.S.C. 136 and 136a

Abstract: This rulemaking will amend the regulations to require firewood of all species imported from Canada, including treated lumber (furniture scraps) sold as kindling, and all spruce logs imported from Nova Scotia to be heat-treated and to be accompanied by either a certificate of treatment or an attached commercial treatment label. This action is necessary on an immediate basis to prevent the artificial spread of pests, including emerald ash borer, Asian longhorned beetle, gypsy moth, European spruce bark beetle, and brown spruce longhorn beetle to noninfested areas of the United States, and to prevent further introduction of these pests into the United States.

Timetable:

Action | Date | FR Cite
Interim Final Rule | 05/00/15
Interim Final Rule Comment Period End | 07/00/15

Regulatory Flexibility Analysis Required: Yes.

Agency Contact: John Tyrone Jones, Trade Director, Forestry Products, Phytosanitary Issues Management, PPQ, Department of Agriculture, Animal and Plant Health Inspection Service, 4700 River Road, Unit 140, Riverdale, MD 20737-1231. Phone: 301 851-2344.

RIN: 0579-AD60

12. Viruses, Serums, Toxins, and Analogous Products; Single Label Claim for Veterinary Biological Products

Legal Authority: 21 U.S.C. 151 to 159

Abstract: This rulemaking will amend the Virus-Serum-Toxin Act regulations to replace the current label format, which reflects any of four different levels of effectiveness, with a single, uniform label format. It also will require biologics licensees to provide a standardized summary, with confidential business information removed, of the efficacy and safety data submitted to the Animal and Plant Health Inspection Service in support of the issuance of a full product license or conditional license. A single label format, along with publicly available safety and efficacy data, will help biologics producers to more clearly communicate product performance to their customers.

Timetable:

Action | Date | FR Cite
Notice | 05/24/11 | 76 FR 30093
Comment Period End | 07/25/11
NPRM | 04/21/14 | 79 FR 22048
NPRM Comment Period End | 06/20/14
Final Rule | 05/00/15
Final Rule Effective | 07/00/15

Regulatory Flexibility Analysis Required: Yes.

Agency Contact: Donna L Malloy, Operational Support Section, Center for Veterinary Biologics, Policy, Evaluation, and Licensing, VS, Department of Agriculture, Animal and Plant Health Inspection Service, 4700 River Road, Unit 148, Riverdale, MD 20737-1231, Phone: 301 851-3426.

RIN: 0579-AD64

13. Establishing a Performance Standard for Authorizing the Importation and Interstate Movement of Fruits and Vegetables

Legal Authority: 7 U.S.C. 450; 7 U.S.C. 7701 to 7772; 7 U.S.C. 7781 to 7786; 21 U.S.C. 136 and 136a

Abstract: This rulemaking would amend our regulations governing the importations of fruits and vegetables by broadening our existing performance standard to provide for consideration of all new fruits and vegetables for importation into the United States using a notice-based process. Rather than authorizing new imports through proposed and final rules and specifying import conditions in the regulations, the notice-based process uses Federal Register notices to make risk analyses available to the public for review and comment, with authorized commodities and their conditions of entry subsequently being listed on the Internet. It also would remove the region- or commodity-specific phytosanitary requirements currently found in these regulations. Likewise, we are proposing an equivalent revision of the performance standard in our regulations governing the interstate movements of fruits and vegetables from Hawaii and the U.S. territories (Guam, Northern Mariana Islands, Puerto Rico, and the U.S. Virgin Islands) and the removal of commodity-specific phytosanitary requirements from those regulations. This proposal would allow for the consideration of requests to authorize the importation or interstate movement of new fruits and vegetables in a manner that enables a more flexible and responsive regulatory approach to evolving pest situations in both the United States and exporting countries. It would not, however, alter the science-based process in which the risk associated with importation or interstate movement of a given fruit or vegetable is evaluated or the manner in which risks associated with the importation or interstate movement of a fruit or vegetable are mitigated.

Timetable:

Action | Date | FR Cite
NPRM | 09/09/14 | 79 FR 53346
NPRM Comment Period End | 11/10/14
NPRM Comment Period Reopened | 12/04/14 | 79 FR 71973
NPRM Comment Period End | 01/09/15
NPRM Comment Period Reopened | 02/06/15 | 80 FR 6665
NPRM Comment Period End | 03/10/15
Final Rule | 05/00/15
Final Rule Effective | 07/00/15

Regulatory Flexibility Analysis Required: Yes.

Agency Contact: Nicole Russo, Assistant Director, Regulatory Coordination and Compliance, PPQ, Department of Agriculture, Animal and Plant Health Inspection Service, 4700 River Road, Unit 133, Riverdale, MD 20737-1236, Phone: 301 851-2159.

RIN: 0579-AD71

14. User Fees for Agricultural Quarantine and Inspection Services

Legal Authority: 7 U.S.C. 7701 to 7772; 7 U.S.C. 7781 to 7786; 7 U.S.C. 8301 to 8317; 21 U.S.C. 136 and 136a; 49 U.S.C. 80503

Abstract: This rulemaking will amend the user fee regulations by adding new fee categories and adjusting current fees charged for certain agricultural quarantine and inspection services that are provided in connection with certain commercial vessels, commercial trucks, commercial railroad cars, commercial aircraft, and international passengers arriving at ports in the customs territory of the United States. It also will adjust the fee caps associated with commercial vessels, commercial trucks, and commercial railcars. Based on the conclusions of a third party assessment of the user fee program and on other considerations, we have determined that revised user fee categories and revised user fees are necessary to recover the costs of the current level of activity, to account for actual and projected increases in the cost of doing business, and to more accurately align fees with the costs associated with each fee service.

Timetable:

Action | Date | FR Cite
NPRM | 04/25/14 | 79 FR 22895
NPRM Comment Period End | 06/24/14
NPRM Comment Period Reopened | 07/01/14 | 79 FR 37231
NPRM Comment Period Reopened End | 07/24/14
Final Rule | 05/00/15
Final Rule Effective | 07/00/15

Regulatory Flexibility Analysis Required: Yes

Agency Contact: William E Thomas, Senior Agriculturist, Office of the Deputy Administrator, PPQ, Department of Agriculture, Animal and Plant Health Inspection Service, 4700 River Road, Unit 130, Riverdale, MD 20737, Phone: 301 851-2306.

Kris Caraher, Branch Chief, Review and Analysis, Financial Management Division, MRPBS, Department of Agriculture, Animal and Plant Health Inspection Service, 4700 River Road, Unit 55, Riverdale, MD 20737, Phone: 301 851-2384.

RIN: 0579-AD77

15. • Importation of Beef From a Region in Argentina (Section 610 Review)

Legal Authority: 7 U.S.C. 450; 7 U.S.C. 7701 to 7772; 7 U.S.C. 7781 to 7786; 7 U.S.C. 8301 to 8317; 21 U.S.C. 136 abd 136a; 31 U.S.C. 9701

Abstract: This rulemaking will amend the regulations governing the importation of certain animals, meat, and other animal products to allow, under certain conditions, the importation of fresh (chilled or frozen) beef from a region in Argentina located north of Patagonia South and Patagonia North B, referred to as Northern Argentina. Based on the evidence in a recent risk analysis, we have determined that fresh (chilled or frozen) beef can be safely imported from Northern Argentina, subject to certain conditions. This action provides for the importation of beef from Northern Argentina into the United States, while continuing to protect the United States against the introduction of foot-and-mouth disease.

Timetable:

Action | Date | FR Cite
NPRM | 08/29/14 | 79 FR 64687
NPRM Comment Period End | 10/28/14
NPRM Comment Period Reopened | 10/31/14
NPRM Comment Period Reopened End | 12/29/14
Final Rule | 05/00/15
Final Rule Effective | 06/00/15

Regulatory Flexibility Analysis Required: Yes.

Agency Contact: Dr. Silvia Kreindel, Senior Staff Veterinarian, Regionalization Evaluation Services Staff, NIES, VS, Department of Agriculture, Animal and Plant Health Inspection Service, 4700 River Road, Unit 38, Riverdale, MD 20737-1231, Phone: 301 851-3313.

RIN: 0579-AD92

DEPARTMENT OF AGRICULTURE (USDA)

Animal and Plant Health Inspection Service (APHIS)

Long-Term Actions

16. Introduction of Organisms and Products Altered or Produced Through Genetic Engineering

Legal Authority: 7 U.S.C. 7701 to 7772; 7 U.S.C. 7781 to 7786; 31 U.S.C. 9701

Abstract: We are withdrawing a proposed rule that would have amended the regulations regarding the introduction (importation, interstate movement, and environmental release (field testing)) of certain genetically engineered organisms. We are doing this because of the experience we have gained over the past 28 years, continuing advances in biotechnology, and comments we received on the rule. We will begin a fresh stakeholder engagement to explore alternative policy approaches. This engagement will begin with a series of webinars that will provide the stakeholder community an opportunity to provide initial feedback. Information on these webinars will be announced in the coming month.

Timetable:

Action | Date | FR Cite
Notice of Intent to Prepare an Environmental Impact Statement | 01/23/04 | 69 FR 3271
Comment Period End | 03/23/04
Notice of Availability of Draft Environmental Impact Statement | 07/17/07 | 72 FR 39021
Comment Period End | 09/11/07
NPRM | 10/09/08 | 73 FR 60007
NPRM Comment Period End | 11/24/08
Correction | 11/10/08 | 73 FR 66563
NPRM Comment Period Reopened | 01/16/09 | 74 FR 2907
NPRM Comment Period End | 03/17/09
NPRM; Notice of Public Scoping Session | 03/11/09 | 74 FR 10517
NPRM Comment Period Reopened | 04/13/09 | 74 FR 16797
NPRM Comment Period End | 06/29/09
NPRM; Withdrawal | 03/04/15 | 80 FR 11598
NPRM; Withdrawal Effective | 03/04/15 | 80 FR 11598
Next Action Undetermined

Regulatory Flexibility Analysis Required: Yes.

Agency Contact: Chessa Huff-Woodard, Phone: 301 851-3943.

RIN: 0579-AC31.

BILLING CODE 3410-34-P

DEPARTMENT OF AGRICULTURE (USDA)

Rural Housing Service (RHS)

Completed Actions

17. Guaranteed Single-Family Housing

Legal Authority: 5 U.S.C. 301; 7 U.S.C. 1989; 42 U.S.C. 1480

Abstract: The Guaranteed Single-Family Housing Loan Program interim final rule encourages new residential construction in rural areas. The new rule provides for a “construction-to-permanent financing” process. Lenders will be able to obtain a loan note guarantee when construction commences, in a “single close” transaction, rather than first obtaining short-term construction financing and then later obtaining the guaranteed loan. The new rule streamlines the financing of building new homes. The interim final rule also expands the types of lenders who are eligible to participate, increasing the reach of the program to small community banks in remote areas and to credit unions with memberships who are teachers as well as other groups. The rule change will allow participation by any lending entity supervised and regulated by the Federal Deposit Insurance Corporation, the National Credit Union Administration, the Office of the Comptroller of the Currency, the Federal Reserve Banks, or the Federal Housing Finance Board. Currently, these entities may not be eligible lenders.

Completed:

Reason | Date | FR Cite
Interim Final Rule | 12/09/13 | 78 FR 73927
Interim Final Rule Effective | 12/01/14 |

Regulatory Flexibility Analysis Required: Yes.

Agency Contact: Joaquin Tremols, Phone: 202 720-1465, Fax: 202 205-2476, Email: joaquin.tremols@wdc.usda.gov.

RIN: 0575-AC18

BILLING CODE 3410-XV-P

DEPARTMENT OF AGRICULTURE (USDA)

Food and Nutrition Service (FNS)

Proposed Rule Stage

18. Child and Adult Care Food Program: Meal Pattern Revisions Related to the Healthy, Hunger-Free Kids Act of 2010

Legal Authority: Pub. L. 111-296

Abstract: This final rule will implement section 221 of the Healthy, Hunger-Free Kids Act of 2010 (Pub. L. 111-296; the Act). It requires USDA to review and update, no less frequently than once every 10 years, requirements for meals served under the Child and Adult Care Food Program (CACFP) to ensure those meals are consistent with the most recent Dietary Guidelines for Americans and relevant nutrition science.

Timetable:

Action | Date | FR Cite
NPRM | 01/15/15 | 80 FR 2037
NPRM Comment Period End | 04/15/15
NPRM Comment Period Extended | 04/27/15 | 80 FR 23243
NPRM Comment Period Extended End | 05/27/15
Final Action | 01/00/16

Regulatory Flexibility Analysis Required: Yes.

Agency Contact: James F. Herbert, Regulatory Review Specialist, Department of Agriculture, Food and Nutrition Service, 3101 Park Center Drive, Alexandria, VA 22302, Phone: 703 305-2572, Email: james.herbert@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AE18

19. • Modernizing Supplemental Nutrition Assistance Program (SNAP) Benefit Redemption Systems

Legal Authority: Pub. L. 113-79

Abstract: The Agricultural Act of 2014 (Pub. L. 113-79, the Farm Bill) amended the Food and Nutrition Act of 2008 (the FNA) to include new requirements regarding the acceptance and processing of SNAP client benefits by all non-exempt retailers participating in SNAP. Statutory changes will modernize EBT systems and ensure greater program integrity. The Food and Nutrition Service (FNS) also plans to revise certain SNAP regulations for which multiple State agencies have sought and received approval of waivers. The revisions will streamline program administration, offer greater flexibility to State agencies, and improve customer service.

Timetable:

Action | Date | FR Cite
NPRM | 09/00/15

Regulatory Flexibility Analysis Required: Yes.

Agency Contact: Charles H Watford, Regulatory Review Specialist, Department of Agriculture, Food and Nutrition Service, 3101 Park Center Drive, Alexandria, VA 22302, Phone: 703 605-0800, Email: charles.watford@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AE37

20. • Supplemental Nutrition Assistance Program (SNAP): Electronic Benefits Transfer Requirements for Scanning and Product-Lookup Technology

Legal Authority: Pub. L. 113-79

Abstract: This rule will align program regulations with changes made by section 4002 of the Agricultural Act of 2014 (Pub. L. 113-79, the Farm Bill), which introduces new technical requirements for point-of-sale (POS) devices in the Electronic Benefits Transfer (EBT) system in section 7(h)(2)(C) of the Food and Nutrition Act of 2008 (the FNA). The Food and Nutrition Service (FNS) will propose to revise existing regulations both to codify these statutory requirements as well as to provide for their effective implementation and enforcement through the clarification of the technical specifications and capabilities required of this equipment and by addressing methods for ensuring compliance. In addition, the Department will define what constitutes an area that has significantly limited access to food to determine who is exempt from this requirement.

Timetable:

Action | Date | FR Cite
NPRM | 01/00/16

Regulatory Flexibility Analysis Required: Yes.

Agency Contact: Charles H Watford, Regulatory Review Specialist, Department of Agriculture, Food and Nutrition Service, 3101 Park Center Drive, Alexandria, VA 22302, Phone: 703 605-0800, Email: charles.watford@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AE39

21. • Food and Nutrition Service Regulatory Implementation of Office of Management and Budget's Uniform Administrative Requirements, Cost Principles, and Audit Requirements for Federal Awards

Legal Authority: OMB Guidance, “Uniform Administrative Requirements, Cost Principles, and Audit Requirements for Federal Awards”

Abstract: This proposed regulation will implement the final guidance Uniform Administrative Requirements, Cost Principles, and Audit Requirements for Federal Awards published by the Office of Management and Budget (OMB) on December 26, 2013. USDA implementation of the guidance will occur in December 2014 with the OMB joint interim final rule. This FNS rule will update references to the OMB final guidance throughout the FNS rules.

Timetable:

Action | Date | FR Cite
NPRM | 05/00/15

Regulatory Flexibility Analysis Required: Yes.

Agency Contact: James F. Herbert, Regulatory Review Specialist, Department of Agriculture, Food and Nutrition Service, 3101 Park Center Drive, Alexandria, VA 22302, Phone: 703 305-2572, Email: james.herbert@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AE42

DEPARTMENT OF AGRICULTURE (USDA)

Food and Nutrition Service (FNS)

Final Rule Stage

22. National School Lunch and School Breakfast Programs: Nutrition Standards for all Foods Sold in School, as Required by the Healthy, Hunger-Free Kids Act of 2010

Legal Authority: Pub. L. 111-296

Abstract: This rule codifies the two provisions of the Healthy, Hunger-Free Kids Act (Pub. L. 111-296; the Act) under 7 CFR parts 210 and 220. Section 203 requires schools participating in the National School Lunch Program to make available to children free of charge, as nutritionally appropriate, potable water for consumption in the place where meals are served during meal service. Section 208 requires the Secretary to promulgate regulations to establish science-based nutrition standards for all foods sold in schools. The nutrition standards apply to all food sold outside the school meal programs, on the school campus, and at any time during the school day.

Timetable:

Action | Date | FR Cite
NPRM | 02/08/13 | 78 FR 9530
NPRM Comment Period End | 04/09/13
Interim Final Rule | 06/28/13 | 78 FR 39067
Interim Final Rule Effective | 08/27/13
Interim Final Rule Comment Period End | 10/28/13
Final Action | 12/00/15

Regulatory Flexibility Analysis Required: Yes.

Agency Contact: James F. Herbert, Regulatory Review Specialist, Department of Agriculture, Food and Nutrition Service, 3101 Park Center Drive, Alexandria, VA 22302, Phone: 703 305-2572, Email: james.herbert@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AE09

23. National School Lunch and School Breakfast Programs: School Food Service Account Revenue Amendments Related to the Healthy, Hunger-Free Kids Act of 2010

Legal Authority: Pub. L. 111-296

Abstract: This rule amends National School Lunch Program (NSLP) regulations to conform to requirements contained in the Healthy, Hunger-Free Kids Act of 2010 regarding equity in school lunch pricing and revenue from non-program foods sold in schools. This rule requires school food authorities (SFAs) participating in the NSLP to provide the same level of financial support for lunches served to students who are not eligible for free or reduced price lunches as is provided for lunches served to students eligible for free lunches. This rule also requires that all food sold in a school and purchased with funds from the nonprofit school food service account other than meals and supplements reimbursed by the Department of Agriculture must generate revenue at least proportionate to the cost of such foods.

Timetable:

Action | Date | FR Cite
Interim Final Rule | 06/17/11 | 76 FR 35301
Interim Final Rule Effective | 07/01/11
Interim Final Rule Comment Period End | 09/15/11
Final Action | 03/00/16

Regulatory Flexibility Analysis Required: Yes.

Agency Contact: James F. Herbert, Regulatory Review Specialist, Department of Agriculture, Food and Nutrition Service, 3101 Park Center Drive, Alexandria, VA 22302, Phone: 703 305-2572, Email: james.herbert@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AE11

24. Child Nutrition Programs: Local School Wellness Policy Implementation Under the Healthy, Hunger-Free Kids Act of 2010

Legal Authority: Pub. L. 111-296

Abstract: This final rule codifies a provision of the Healthy, Hunger-Free Kids Act (Pub. L. 111-296; the Act) under 7 CFR parts 210 and 220. Section 204 of the Act requires each local educational agency (LEA) to establish, for all schools under its jurisdiction, a local school wellness policy. The Act requires that the wellness policy include goals for nutrition, nutrition education, physical activity, and other school-based activities that promote student wellness. In addition, the Act requires that local educational agencies ensure stakeholder participation in development of their local school wellness policies, and periodically assess compliance with the policies, and disclose information about the policies to the public.

Timetable:

Action | Date | FR Cite
NPRM | 02/26/14 | 79 FR 10693
NPRM Comment Period End | 04/28/14 |
Final Action | 06/00/15 |

Regulatory Flexibility Analysis Required: Yes.

Agency Contact: James F. Herbert, Regulatory Review Specialist, Department of Agriculture, Food and Nutrition Service, 3101 Park Center Drive, Alexandria, VA 22302, Phone: 703 305-2572, Email: james.herbert@fns.usda.gov.

Lynnette M. Thomas, Chief, Planning and Regulatory Affairs Branch, Department of Agriculture, Food and Nutrition Service, 3101 Park Center Drive, Alexandria, VA 22302, Phone: 703 605-4782, Email: lynnette.thomas@fns.usda.gov.

RIN: 0584-AE25

BILLING CODE 3410-30-P

DEPARTMENT OF AGRICULTURE (USDA)

Food Safety and Inspection Service (FSIS)

Final Rule Stage

25. Mandatory Inspection of Fish of the Order Siluriformes and Products Derived From Such Fish

Legal Authority: Federal Meat Inspection Act (FMIA) (21 U.S.C. 601 to 695); Pub. L. 110-246, sec 11016; Pub. L. 113-79, sec 12106

Abstract: The 2008 Farm Bill (Pub. L. 110-246, sec. 11016), amended the Federal Meat Inspection Act (FMIA) to make “catfish” a species amenable to the FMIA and, therefore, subject to FSIS inspection. In addition, the 2008 Farm Bill gave FSIS the authority to define the term “catfish.” On February 24, 2011, FSIS published a proposed rule that outlined a mandatory catfish inspection program and presented two options for defining “catfish.” The 2014 Farm Bill (Pub. L. 113-79, sec. 12106), amended the FMIA to remove the term “catfish” and to make “all fish of the order Siluriformes” subject to FSIS jurisdiction and inspection. As a result, FSIS inspection of Siluriformes is mandated by law and non-discretionary.

Timetable:

Action | Date | FR Cite
NPRM | 02/24/11 | 76 FR 10434
NPRM Comment Period End | 06/24/11 |
Final Action | 07/00/15 |

Regulatory Flexibility Analysis Required: Yes

Agency Contact: Dr. Daniel L Engeljohn, Assistant Administrator, Office of Policy and Program Development, Department of Agriculture, Food Safety and Inspection Service, 1400 Independence Avenue SW., 349-E JWB, Washington, DC 20250, Phone: 202 205-0495, Fax: 202 720-2025, Email: daniel.engeljohn@fsis.usda.gov.

RIN: 0583-AD36.

BILLING CODE 3410-DM-P

DEPARTMENT OF AGRICULTURE (USDA)

Forest Service (FS)

Proposed Rule Stage

26. Management of Surface Activities Associated With Outstanding Mineral Rights on National Forest System Lands

Legal Authority: EPA 1992

Abstract: Close to 11,000,000 acres (approximately 6 percent) of National Forest System (NFS) lands overlie severed (split) mineral estates owned by a party other than the Federal Government. More than 75 percent of these lands are in the Eastern Region (Forest Service Regions 8 and 9). There are two kinds of severed mineral estates, generally known as “private rights”: reserved and outstanding. Reserved mineral rights are those retained by a grantor in a deed conveying land to the United States. Outstanding mineral rights are those owned by a party other than the surface owner at the time the surface was conveyed to the United States. Because these are non-Federal mineral interests, the U.S. Department of Interior's Bureau of Land Management has no authority for or role in managing development activities associated with such interests. States have the authority and responsibility for regulating development of the private mineral estate.

Various Secretary's Rules and Regulations (years of 1911, 1937, 1938, 1939, 1947, 1950, and 1963) and Forest Service regulations at 36 CFR 251.15 provide direction for the use of NFS lands for mineral development activities associated with the exercise of reserved mineral rights. These existing rules for reserved minerals development activities also include requirements for protection of NFS resources.

Currently, there are no formal regulations governing the use of NFS lands for activities associated with the exercise of outstanding mineral rights underlying those lands. The Energy Policy Act of 1992, section 2508, directed the Secretary of Agriculture to apply specified terms and conditions to surface-disturbing activities related to development of oil and gas on certain lands with outstanding mineral rights on the Allegheny National Forest, and promulgate regulations implementing that section.

The Forest Service initiated rulemaking for the use of NFS lands for development activities associated with both reserved and outstanding minerals rights with an Advance Notice of Proposed Rulemaking (ANPRM) in the Federal Register on December 29, 2008. Comments from the public in response to the ANPRM conveyed a high level of concern about the broad scope of the rule, along with a high level of concern about effects of a broad rule on small businesses and local economies.

Timetable:

Action | Date | FR Cite
ANPRM | 12/29/08 | 73 FR 79424
ANPRM Comment Period End | 02/27/09 |
NPRM | 08/00/15 |

Regulatory Flexibility Analysis Required: Yes.

Agency Contact: LaRenda C King, Assistant Director, Directives and Regulations, Department of Agriculture, Forest Service, ATTN: ORMS, D&R Branch, 1400 Independence Avenue SW., Washington, DC 20250-0003, Phone: 202 205-6560, Email: larendacking@fs.fed.us.

RIN: 0596-AD03

DEPARTMENT OF AGRICULTURE (USDA)

Forest Service (FS)

Final Rule Stage

27. Ski Area—D Clauses: Resource and Improvement Protection, Water Facilities, and Water Rights

Legal Authority: FSH 2709.11

Abstract: On November 8, 2011, the Forest Service issued an interim directive (FSH 2709.11-2011-3) including a revised clause to address the ownership of water rights developed on National Forest System (NFS) lands for use by ski area permit holders. On March 6, 2012, a second interim directive (FSH 2709.11-2012-1) for the revised ski area water rights clause was issued, superseding the 2011 version. The National Ski Areas Association filed a lawsuit in the United States District Court for the District of Colorado on March 12, 2012, opposing use of the revised clause. On December 19, 2012, the court ruled that the Forest Service had erred in not providing an opportunity for notice and comment on the interim directive and that the agency needed to conduct a Regulatory Flexibility Act analysis of the impact of the directive on small business entities that hold ski area permits. The court vacated the interim directive and enjoined enforcement of the 2011 and 2012 clauses in permits containing them. The proposed directive would address the development of water facilities on NFS lands; the ownership of preexisting and future water rights; mechanisms to ensure sufficient water remains for ski areas on NFS lands; and measures necessary to protect NFS lands and resources. The Forest Service published the proposed ski area water rights clause in the Federal Register for public notice and comment. To identify interests and views from a diverse group of stakeholders regarding a revised water rights clause for ski areas, the Forest Service held four stakeholder meetings in April 2013. The input from the stakeholder sessions will be considered in the development of a final water rights clause for ski areas.

Timetable:

Action | Date | FR Cite
Proposed Directive | 06/23/14 | 79 FR 35513
Proposed Directive Comment Period End | 08/22/14 |
Final Directive | 07/00/15 |

Regulatory Flexibility Analysis Required: Yes.

Agency Contact: LaRenda C King, Assistant Director, Directives and Regulations, Department of Agriculture, Forest Service, ATTN: ORMS, D&R Branch, 1400 Independence Avenue SW., Washington, DC 20250-0003, Phone: 202 205-6560, Email: larendacking@fs.fed.us.

RIN: 0596-AD14

[FR Doc. 2015-14339 Filed 6-17-15; 8:45 am]

BILLING CODE 3410-11-P